DEPARTMENT OF HEALTH AND HUMAN SERVICES

Centers for Disease Control and Prevention

Advisory Committee on Immunization Practices (ACIP): Meeting

In accordance with section 10(a)(2) of the Federal Advisory Committee Act (Pub. L. 92-463), the Centers for Disease Control and Prevention (CDC) announces the following meeting of the aforementioned Federal Advisory Committee:

Times and Dates: 8 a.m.—6 p.m., June 27, 2007. 8 a.m.—4 p.m., June 28, 2007.

Place: Centers for Disease Control and Prevention, 1600 Clifton Road, NE., Global Communications Center, Building 19, Room 232, Atlanta, Georgia 30333.

Status: Open to the public, limited only by the space available. Meeting space accommodates approximately 330 people. Overflow space for real-time viewing will be available.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters to be Discussed: The agenda will include discussions on vaccine financing; Hepatitis A post-exposure prophylaxis which will include a VFC vote; cold adapted influenza vaccine; immunization safety; TDap-IPV-Hib combination vaccine (Pentacel); MCV4 dose to 2 years; vaccine shortages; economic analyses of vaccines; evidence-based recommendations; Human Papillomavirus Vaccine; update on HIV vaccines; childhood immunization schedule; adult immunization schedule; update on pneumococcal vaccines working group; update on vaccines during pregnancy and breastfeeding working group; Hepatitis B update on adult recommendations; and agency updates. VFC votes will be taken to add Pentacel to the Diphtheria, Tetanus, Pertussis resolution; to the Haemophilus influenzae type b resolution and to the Polio resolution pending Food and Drug Administration approval for licensure of Pentacel. Agenda items are subject to change as priorities dictate.

Additional Information: In order to expedite the security clearance process at the CDC Roybal Campus located on Clifton Road, all ACIP attendees are required to register online at www.cdc.gov/nip/acip, which can be found at the “Upcoming Meetings” tab. Please complete all the required fields before submitting your registration and submit no later than May 31, 2007.

Please Note: In addition to completing the registration form online, as described above, all non-U.S. citizens are required to complete the “Access Request Form.” The completed access request form should be sent by e-mail directly to Ms. Gardner at dgardner@cdc.gov.

Contact Person For More Information: Demetria Gardner, Immunization Services Division, National Center for Immunization and Respiratory Diseases, CDC, 1600 Clifton Road, NE, (E-05), Atlanta, Georgia 30333, telephone 404/639-8836, fax 404/639-6258.

The Director, Management Analysis and Services Office, has been delegated the authority to sign Federal Register notices pertaining to announcements of meetings and other committee management activities for both the CDC and ATSDR.

Dated: April 27, 2007.
Elaine L. Baker,
Acting Director, Management Analysis and Services Office Centers for Disease Control and Prevention.

[FR Doc. E7-8590 Filed 5-3-07; 8:45 am]

BILLING CODE 4163-18-P